DEPARTMENT OF HOMELAND SECURITY

Coast Guard

33 CFR Part 117

[Docket No. USCG-2017-0460]

Drawbridge Operation Regulation; Shrewsbury River, Sea Bright, New Jersey

AGENCY: Coast Guard, DHS.

ACTION: Notice of temporary deviation from regulations; request for comments.

SUMMARY: The Coast Guard has issued a temporary deviation from the operating schedule that governs the Monmouth County Highway Bridge (alternatively referred to as the “Sea Bright Bridge” or the “S-32 Bridge”) across the Shrewsbury River, mile 4.0, at Sea Bright, New Jersey. This deviation will test a proposed change to the drawbridge operation schedule to determine whether a permanent change to the schedule is warranted. This deviation will allow the bridge to operate under an alternate schedule that seeks to balance the seasonally high volume of roadway traffic crossing the bridge during peak hours with the existing needs of marine traffic.

DATES: This deviation is effective from 9 a.m. on May 25, 2018, to 7 p.m. on September 3, 2018.

Comments and related material must reach the Coast Guard on or before September 3, 2018.

ADDRESSES: You may submit comments identified by docket number USCG-2017-0460 using Federal eRulemaking Portal at http://www.regulations.gov.

See the “Public Participation and Request for Comments” portion of the SUPPLEMENTARY INFORMATION section below for instructions on submitting comments.

FOR FURTHER INFORMATION CONTACT: If you have questions on this test deviation, call or email Ms. Donna Leoce, Project Officer, First Coast Guard District, telephone 212-514-4332, donna.d.leoce@uscg.mil.

SUPPLEMENTARY INFORMATION:

I. Background, Purpose and Legal Basis

On July 18, 2017, the Coast Guard published a notice of proposed rulemaking (NPRM) entitled, “Drawbridge Operation Regulation; Shrewsbury River, Sea Bright, New Jersey” in the Federal Register (82 FR 32777) soliciting comments on the proposed rule through September 18, 2017. In addition, Commander (dpb), First Coast Guard District published Public Notice 1-155 dated July 28, 2017.

The Monmouth County Highway Bridge, mile 4.0, across the Shrewsbury River at Sea Bright, New Jersey, has a vertical clearance of 15 feet at Mean High Water and 17 feet at Mean Low Water when the span is in the closed position. Vertical clearance is unlimited when the draw is open. Horizontal clearance is 75 feet. Waterway users include recreational vessels and a limited number of commercial vessels including tug/barge combinations.

The existing drawbridge regulation, 33 CFR 117.755, requires the draw of the Monmouth County Highway Bridge to open as follows:

The draw shall open on signal at all times; except that, from May 15 through September 30, on Saturday, Sunday and holidays, between 9 a.m. and 7 p.m., the draw need open only on the hour and half hour.

This regulation has been in effect since July 6, 2010. The owner of the bridge, the Monmouth County Board of Chosen Freeholders, requested a change to the drawbridge operating regulations given the increased volume of vehicular traffic crossing the bridge associated with the summer months. The increase of vehicular traffic has resulted in significant traffic congestion on either side of the bridge during peak travel hours. The owner of the bridge asserts traffic congestion will be relieved through reduction of required bridge openings for vessels.

Monmouth County also requested that from May 15 to September 30 the modified operating regulations presently encompassing Saturdays, Sundays, and holidays be expanded to include Fridays as well. Monmouth County posited that starting the modified weekend operating schedule on Friday will allow for more efficient and economical operation of the bridge, given the volume of vehicular traffic crossing the bridge at the beginning of the weekend.

The NPRM published in July 2017, if made a Final Rule, would permanently change the operating hours to allow the Monmouth County Highway Bridge to open as follows: The draw shall open on signal at all times; except that, from May 15 through September 30, on Friday, Saturday, Sunday and holidays, between 9 a.m. and 7 p.m., the draw need only open on the hour.

In response to the comments received, follow-up meetings with Monmouth County officials, and further review of bridge logs and traffic counts, the Coast Guard now proposes to test an alternate schedule by adjusting the proposed rule to allow the draw to open as follows: The draw shall open on signal at all times; except that, from the Friday before Memorial Day through Labor Day, on Friday, Saturday, Sunday and holidays, between 9 a.m. and 7 p.m., the draw need only open on the hour.

Before advancing the proposed rule to a final rule, the Coast Guard supports testing an alternate schedule for the 2018 boating season in order to better assess safety concerns and further compare roadway traffic counts versus requests for bridge openings. Monmouth County plans to record traffic counts during the Memorial Day, July 4th, and Labor Day time periods as well as additional one-week periods in July and August. Bridge tenders will also collect boat traffic data. Data from this test and further public comments will best inform our final decision.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacynotice.

Documents mentioned in this notice as being available in this docket and all public comments, will be in our online docket at http://www.regulations.gov and can be viewed by following that website's instructions. Additionally, if you go to the online docket and sign up for email alerts, you will be notified when comments are posted or a final rule is published.

Dated: May 17, 2018.
C.J. Bisignano,
Supervisory Bridge Management Specialist, First Coast Guard District.

[FR Doc. 2018-10872 Filed 5-21-18; 8:45 am]

BILLING CODE 9110-04-P